DEPARTMENT OF TRANSPORTATION

National Highway Traffic Safety Administration

49 CFR Parts 573, 577, and 579

[Docket No. NHTSA—2012-0068; Notice 4]

RIN 2127-AK72

Early Warning Reporting, Foreign Defect Reporting, and Motor Vehicle and Equipment Recall Regulations

AGENCY: National Highway Traffic Safety Administration (NHTSA), Department of Transportation (DOT).

ACTION: Notice of Availability of Technical Specifications for Vehicle Identification Number (VIN) Look-up Interface.

SUMMARY: On January 22, 2014, NHTSA held a public meeting to review and discuss the technical specifications that vehicle manufacturers will need in order to support the VIN-based safety recalls look-up tool that will be housed on the NHTSA Web site www.safercar.gov. Numerous members of the auto industry, as well as consumer advocacy groups, vehicle history service providers, and others attended. This notice announces the availability of the final technical specification for the VIN interface.

DATES: March 10, 2014.

ADDRESSES: Previously submitted comments and petitions for reconsideration can be found in the docket.

For access to the docket to read background documents or comments received, go to http://www.regulations.gov and follow the online instructions for accessing the docket. You may also visit DOT's Docket Management Facility, 1200 New Jersey Avenue SE., West Building Ground Floor, Room W12-140, Washington, DC 20590-0001 for on-line access to the docket.

FOR FURTHER INFORMATION CONTACT: Jennifer Timian, Chief, Recall Management Division, National Highway Traffic Safety Administration, telephone 202-366-0209, email jennifer.timian@dot.gov.

SUPPLEMENTARY INFORMATION: On August 20, 2013, NHTSA published a final rule requiring certain vehicle manufacturers to allow the secure electronic transfer of manufacturer recall data to NHTSA when a consumer submits VIN information to the agency's Web site for purposes of learning vehicle recall information. See 78 FR 51382, 51401. This requirement applies to manufacturers who manufacture 25,000 light vehicles annually or 5,000 motorcycles annually. Further information about the requirement to transfer recall data to NHTSA based upon a consumer's VIN may be found in the August 20, 2013 final rule.

In the final rule, NHTSA committed to hosting a public meeting to discuss the technical specification that would facilitate the secure transfer of recall information. That public meeting was held on January 22, 2014, and was attended by vehicle manufacturers, equipment manufacturers, industry trade groups, safety advocates, vehicle history report providers, and members of the public. NHTSA reviewed a VIN look-up tool technical specification document it previously made available to the public for discussion at the meeting, and attendees offered their commentary and suggestions, asked questions, and sought clarification on various points.

Based on the information we received from the public meeting, as well as our review of the specifications, we have adjusted the technical specifications and are making available the final technical specifications. We note that these technical specifications may change to address problems, issues or difficulties that arise from time-to-time during the operation of the VIN-look-up tool. In those situations, the agency will provide notice of its remedies to covered manufacturers through EWR and place the technical specifications on the agency's Web site, www.safercar.gov.

The following summarizes the public meeting:

1. Several manufacturers voiced concern regarding server maintenance scheduling and the technical specifications' instruction for manufacturers to provide information about scheduled server maintenance times to NHTSA. Manufacturers were concerned these set times would not offer enough flexibility to properly maintain their servers. Also, some manufacturers questioned how often their systems were allowed to be off-line for maintenance. The original technical specifications document did not specify how often a manufacturer's servers must be available for VIN look-up searches.

With the revised technical specifications we are announcing today, we are discarding defined maintenance windows in favor of a performance-based requirement. This new requirement is intended to ensure manufacturers' servers are available to report recall results with regularity and during time frames when U.S. users can be expected to send inquiries through our Web site. We have devised a specific error code to be used if and when a manufacturer's servers are unable to accept a request so that we can monitor and track performance, and that will also report out a message to the user that the search cannot be completed at that time, and to try again at another time.

2. Some manufacturers suggested that the technical specifications contain optional fields to include their manufacturer-assigned recall numbers and their contact information (such as toll-free numbers and Web site information) for display on any recall results shown on NHTSA's VIN look-up tool. NHTSA has amended its technical specifications document to add optional data fields to support the transfer of this information.

3. Some manufacturers noted inconsistencies between the information required to be provided on the manufacturer's Web site (or that of a third party to whom consumers are redirected), See 49 CFR 573.15, and NHTSA's VIN look-up tool. We have updated the technical specifications to ensure consistency between the two notification systems.

4. Also discussed were the measures for ensuring the secure transfer of information between a manufacturer and the agency. Consistent with the final rule, the technical specifications required use of SSL and unique API keys to ensure VIN requests and responses are encrypted adequately. Use of SSL and unique API keys is consistent with standard security practices. As noted in the earlier technical specifications, NHTSA will also validate VIN requests by requiring a CAPTCHA, or similar user validation, before contacting manufacturer servers for VIN results.

Manufacturers with early warning reporting (EWR) accounts may obtain a copy of the VIN look-up interface technical specifications through the agency's Web site. To obtain the technical specifications, these manufacturers can use their EWR account credentials to access the secure Web page at http://www.odi.nhtsa.dot.gov/ewr/login.cfm. After logging in to the EWR system, the document labeled “NEW—Technical Specifications for VIN Lookup Interface” can be found on the next page. For any manufacturer, company, or group that does not have an EWR account, please contact Alex Ansley at alexander.ansley@dot.gov to receive a copy of the technical specifications.

Frank Borris,
Director, Office of Defects Investigation NHTSA.

[FR Doc. 2014-05126 Filed 3-7-14; 8:45 am]

BILLING CODE 4910-59-P